DEPARTMENT OF COMMERCE

International Trade Administration

[C-533-872]

Finished Carbon Steel Flanges From India: Final Results of the Expedited First Sunset Review of the Countervailing Duty Order

AGENCY: Enforcement and Compliance, International Trade Administration, Department of Commerce.

SUMMARY: As a result of this expedited sunset review, the U.S. Department of Commerce (Commerce) finds that revocation of the countervailing duty order on finished carbon steel flanges from India would be likely to lead to continuation or recurrence of countervailable subsidies at the levels as indicated in the “Final Results of Sunset Review” section of this notice.

DATES: Applicable September 1, 2022.

FOR FURTHER INFORMATION CONTACT: James R. Hepburn and Preston Cox, AD/CVD Operations, Office VI, Enforcement and Compliance, International Trade Administration, U.S. Department of Commerce, 1401 Constitution Avenue NW, Washington, DC 20230; telephone: (202) 482-1882 and (202) 482-5041, respectively.

SUPPLEMENTARY INFORMATION:

Background

On August 24, 2017, Commerce published the countervailing duty order on finished carbon steel flanges from India.¹ On May 2, 2022, Commerce published the notice of initiation of the first sunset review of the Order, pursuant to section 751(c) of the Tariff Act of 1930, as amended (the Act).² Commerce received a notice of intent to participate from Weldbend Corporation and Boltex Manufacturing Company, Inc. (collectively, domestic interested parties) within the deadline specified in 19 CFR 351.218(d)(1)(i).³ The domestic interested parties claimed interested party status within the meaning of section 771(9)(C) of the Act and 19 CFR 351.102(b)(29)(v) as domestic producers of finished carbon steel flanges in the United States.

¹ See Finished Carbon Steel Flanges from India: Countervailing Duty Order, 82 FR 40138 (August 24, 2017) (Order).

² See Initiation of Five-Year (Sunset) Reviews, 87 FR 25617 (May 2, 2021).

³ See Domestic Interested Parties' Letter, “Finished Carbon Steel Flanges from India: Notice of Intent to Participate by Weldbend Corporation & Boltex Corporation,” dated May 17, 2022.

On June 1, 2022, Commerce received an adequate substantive response from the domestic interested parties within the 30-day deadline specified in 19 CFR 351.218(d)(3)(i).⁴ Commerce did not receive a substantive response from either the Government of India or a respondent interested party to this proceeding. On July 22, 2021, Commerce notified the U.S. International Trade Commission that it did not receive an adequate substantive response from respondent interested parties.⁵ As a result, Commerce conducted an expedited (120-day) sunset review of the Order, pursuant to section 751(c)(3)(B) of the Act and 19 CFR 351.218(e)(1)(ii)(B)(2) and (C)(2).

⁴ See Domestic Interested Parties' Letter, “Finished Carbon Steel Flanges from India: Substantive Response of Domestic Interested Parties,” dated June 1, 2022 (Substantive Response).

⁵ See Commerce's Letter, “Sunset Reviews Initiated on May 2, 2022,” dated June 21, 2022.

Scope of the Order

The products covered by the Order are finished carbon steel flanges. For a complete description of the scope of the Order, see the Issues and Decision Memorandum.⁶

⁶ See Memorandum, “Issues and Decision Memorandum for the Final Results of the Expedited First Sunset Review of the Countervailing Duty Order of Finished Carbon Steel Flanges from India,” dated concurrently with, and hereby adopted by, this notice (Issues and Decision Memorandum).

Analysis of Comments Received

A complete discussion of all issues raised in this sunset review, including the likelihood of continuation or recurrence of subsidization in the event of revocation of the Order and the countervailable subsidy rates likely to prevail if the Order were to be revoked, is provided in the Issues and Decision Memorandum. A list of the topics discussed in it in the Issues and Decision Memorandum is attached as an appendix to this notice. The Issues and Decision Memorandum is a public document and is on file electronically via Enforcement and Compliance's Antidumping and Countervailing Duty Centralized Electronic Services System (ACCESS). ACCESS is available to registered users at http://access.trade.gov. In addition, a complete version of the Issues and Decision Memorandum can be accessed directly at https://access.trade.gov/public/FRNoticesListLayout.aspx.

Final Results of Sunset Review

Pursuant to sections 751(c)(1) and 752(b) of the Act, Commerce determines that revocation of the Order would be likely to lead to the continuation or recurrence of countervailable subsidies at the following rates:

Producer/exporter | Subsidy rate (percent ad valorem)
Norma (India) Ltd ⁷ | 7.64
R.N. Gupta & Co., Ltd | 9.40
All Others | 7.49

Administrative Protective Order

This notice serves as the only reminder to parties subject to an administrative protective order (APO) of their responsibility concerning the disposition of proprietary information disclosed under APO in accordance with 19 CFR 351.305, which continues to govern business proprietary information in this segment of the proceeding. Timely written notification of the return or destruction of APO materials or conversion to judicial protective order is hereby requested. Failure to comply with the regulations and terms of an APO is a violation which is subject to sanction.

⁷ In the investigation and three subsequent reviews, Commerce found Norma (India) Ltd. to be cross-owned with USK Exports Private Limited; Uma Shanker Khandelwal & Co.; and Bansidhar Chirnajilal. See, e.g., Finished Carbon Steel Flanges from India: Final Affirmative Countervailing Duty Determination, 82 FR 29479 (June 29, 2017) at 29480; and Finished Carbon Steel Flanges from India: Final Results of Countervailing Duty Administrative Review; 2019, 86 FR 67909 (November 30, 2021) at 67910.

Notification to Interested Parties

We are issuing and publishing these final results and this notice in accordance with sections 751(c), 752(b), and 777(i)(1) of the Act, and 19 CFR 351.218.

Dated: August 25, 2022.
Lisa W. Wang,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Sunset Review

VIII. Recommendation

[FR Doc. 2022-18917 Filed 8-31-22; 8:45 am]

BILLING CODE 3510-DS-P